DEPARTMENT OF AGRICULTURE

Forest Service

Southwest Washington Provincial Advisory Committee Meeting Notice

AGENCY: Forest Service, USDA.

ACTION: Notice of meeting.

SUMMARY: The Southwest Washington Provincial Advisory Committee will meet on Wednesday, November 13, 2002 in the Washington State Department of Transportation conference room #302, located adjacent to the Gifford Pinchot National Forest Headquarters, at 11018 NE. 51st Circle, Vancouver, Washington. The meeting will begin at 9:30 a.m. and continue until 4 p.m. The purpose of the meeting is to learn about the results of the: (1) Roads analysis, (2) forest plan monitoring, and (3) recreation use survey; (4) provide preliminary input to the Northwest Forest Plan social and economic monitoring; and (5) provide for a Public Open Forum. All Southwest Washington Provincial Advisory Committee meetings are open to the public. Interested citizens are encouraged to attend. The “open forum” provides opportunity for the public to bring issues, concerns, and discussion topics to the Advisory Committee. The “open forum” is scheduled to occur at 1 p.m. Interested speakers will need to register prior to the open forum period. The committee welcomes the public's written comments on committee business at any time.

FOR FURTHER INFORMATION CONTACT: Direct questions regarding this meeting to Linda Turner, Public Affairs Specialist, at (360) 891-5008, or write Forest Headquarters Office, Gifford Pinchot National Forest, 10600 NE. 51st Circle, Vancouver, WA 98682.

Dated: October 28, 2002.
Claire Lavendel,
Forest Supervisor.

[FR Doc. 02-27954 Filed 11-1-02; 8:45 am]

BILLING CODE 3410-11-M